INTERNATIONAL TRADE COMMISSION

[Investigation Nos. 701-TA-654-655 and 731-TA-1529-1532 (Preliminary)]

Seamless Carbon and Alloy Steel Standard, Line, and Pressure Pipe From Czechia, Korea, Russia, and Ukraine

Determinations

On the basis of the record ¹ developed in the subject investigations, the United States International Trade Commission (“Commission”) determines, pursuant to the Tariff Act of 1930 (“the Act”), that there is a reasonable indication that an industry in the United States is materially injured by reason of imports of seamless carbon and alloy steel standard, line, and pressure pipe from Czechia, Korea, Russia, and Ukraine, provided for in subheadings 7304.19.10, 7304.19.50, 7304.31.60, 7304.39.00, 7304.51.50, 7304.59.60, and 7304.59.80 of the Harmonized Tariff Schedule of the United States, that are alleged to be sold in the United States at less than fair value and alleged to be subsidized by the Governments of Korea and Russia.²

¹ The record is defined in § 207.2(f) of the Commission's Rules of Practice and Procedure (19 CFR 207.2(f)).

² Seamless Carbon and Alloy Steel Standard, Line, and Pressure Pipe From the Czech Republic, the Republic of Korea, the Russian Federation, and Ukraine: Initiation of Less-Than-Fair-Value Investigations; 85 FR 47176 (August 4, 2020) and Seamless Carbon and Alloy Steel Standard, Line, and Pressure Pipe From the Republic of Korea and the Russian Federation: Initiation of Countervailing Duty Investigations; 85 FR 47170 (August 4, 2020).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On July 8, 2020, Vallourec Star, LP, Houston, Texas filed petitions with the Commission and Commerce, alleging that an industry in the United States is materially injured or threatened with material injury by reason of subsidized imports of imports of seamless carbon and alloy steel standard, line, and pressure pipe from Korea and Russia and LTFV imports of imports of seamless carbon and alloy steel standard, line, and pressure pipe from Czechia, Korea, Russia, and Ukraine. Accordingly, effective July 8, 2020, the Commission instituted countervailing duty investigation Nos. 701-TA-654-655 and antidumping duty investigation Nos. 731-TA-1529-1532 (Preliminary).

Notice of the institution of the Commission's investigations and of a public conference to be held in connection therewith was given by posting copies of the notice in the Office of the Secretary, U.S. International Trade Commission, Washington, DC, and by publishing the notice in the Federal Register of July 14, 2020 (85 FR 42431). The conference was held in Washington, DC, on July 29, 2020, and all persons who requested the opportunity were permitted to appear in person or by counsel.

The Commission made these determinations pursuant to §§ 703(a) and 733(a) of the Act (19 U.S.C. 1671b(a) and 1673b(a)). It completed and filed its determinations in these investigations on August 24, 2020. The views of the Commission are contained in USITC Publication 5114 (September 2020), entitled Seamless carbon and alloy steel standard, line, and pressure pipe from Czechia, Korea, Russia, and Ukraine: Investigation Nos. 701-TA-654-655 and 731-TA-1529-1532 (Preliminary).

By order of the Commission.
Issued: August 24, 2020.
Lisa Barton,
Secretary to the Commission.

[FR Doc. 2020-18932 Filed 8-27-20; 8:45 am]

BILLING CODE 7020-02-P